NATIONAL AERONAUTICS AND SPACE ADMINISTRATION

48 CFR Parts 1842 and 1852

Emergency Medical Services and Evacuation

AGENCY: Office of Procurement, Contract Management Division, National Aeronautics and Space Administration (NASA).

ACTION: Proposed rule adopted as final with changes.

SUMMARY: This is a final rule amending the NASA Federal Acquisition Regulation Supplement (NFS) to add a prescription and clause requiring contractors to make all arrangements for emergency medical services and evacuation for its employees when performing a NASA contract outside the United States or in remote locations in the United States. The clause also requires contractors to reimburse the Government for costs that are incurred in cases when the Government is requested by the contractor, and the Government agrees to provide the medical services or evacuation.

EFFECTIVE DATE: April 5, 2001.

FOR FURTHER INFORMATION CONTACT: Louis Becker, NASA Headquarters, Office of Procurement, Contract Management Division (Code HK), Washington, DC 20546, telephone: (202) 358-4593, e-mail to: lbecker@hq.nasa.gov.

SUPPLEMENTARY INFORMATION:

A. Background

NASA is adopting as final, with changes, the proposed rule published in the December 7, 2000, Federal Register (65 FR 76600-76601). This final rule sets forth a prescription and clause requiring contractors to make all arrangements for emergency medical services and evacuation, if necessary, for their employees when performing a NASA contract outside the United States or in remote locations in the United States. The clause also requires contractors to reimburse the Government for costs incurred by the agency in those cases when the Government is requested and it agrees to provide the medical services or evacuation. This final rule is in response to cases where contractor employees required emergency medical services and evacuation while performing on NASA contracts outside the United States. Although not responsible for providing the emergency medical or evacuation services, NASA believed the interests of the contractor employees were paramount. However, this resulted in situations where NASA incurred significant costs, which ultimately were reimbursed by the contractor, but possibly could have been disputed. One comment was received in response to the proposed rule. The comment was considered in formulation of this final rule. One change is made in this final rule to clarify that the contractor's responsibility includes the cost of arranging for the emergency medical services or evacuation.

B. Regulatory Flexibility Act

NASA certifies that this final rule will not have a significant economic impact on a substantial number of small businesses within the meaning of the Regulatory Flexibility Act (5 U.S.C. 601 et seq.) because there are few contracts awarded to small businesses involving contract performance outside the United States or in remote locations in the United States.

C. Paperwork Reduction Act

The Paperwork Reduction Act does not apply because the changes to the NFS do not impose recordkeeping or information collection requirements, or collections of information from offerors, contractors, or members of the public which require the approval of the Office of Management and Budget under 44 U.S.C. 3501, et seq.

List of Subjects in 48 CFR Parts 42 and 52

Government procurement.

Lynn Bailets,
Acting Associate Administrator for Procurement.

Accordingly, 48 CFR Parts 1842 and 1852 are amended as follows:

1. The authority citation for 48 CFR Parts 1842 and 1852 continues to read as follows:

Authority: 42 U.S.C. 2473(c)(1).

PART 1842—CONTRACT ADMINISTRATION AND AUDIT PROCEDURES

2. Amend Part 1842 by adding section 1842.7003 to read as follows:

1842.7003 Emergency medical services and evacuation.

The contracting officer must insert the clause at 1852.242-78, Emergency Medical Services and Evacuation, in all solicitations and contracts when employees of the contractor are required to travel outside the United States or to remote locations in the United States.

3. Amend Part 1852 by adding section 1852.242-78 to read as follows:

PART 1852—SOLICITATION PROVISIONS AND CONTRACT CLAUSES

1852.242-78 Emergency Medical Services and Evacuation.

As prescribed in 1842.7003, insert the following clause:

Emergency Medical Services and Evacuation—April 2001

The Contractor shall, at its own expense, be responsible for making all arrangements for emergency medical services and evacuation, if required, for its employees while performing work under this contract outside the United States or in remote locations in the United States. If necessary to deal with certain emergencies, the Contractor may request the Government to provide medical or evacuation services. If the Government provides such services, the Contractor shall reimburse the Government for the costs incurred.

(End of clause)

[FR Doc. 01-8395 Filed 4-4-01; 8:45 am]

BILLING CODE 7510-01-U